DEPARTMENT OF HOMELAND SECURITY

Federal Emergency Management Agency

44 CFR Part 67

[Docket No. FEMA-B-7707]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Division, Federal Emergency Management Agency, 500 C Street, SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This proposed rule is not a significant regulatory action under the criteria of section 3(f) of Executive Order 12866 of September 30, 1993, Regulatory Planning and Review, 58 FR 51735.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground.: Effective | * Elevation in feet (NGVD) + Elevation in feet (NAVD) # Depth in feet above ground.: Modified | Communities affected
Spartanburg County, South Carolina, and Incorporated Areas
Abners Creek | Confluence with Enoree River | None | +704 | Spartanburg County (Unincorporated Areas) City of Greer.
| Approximately 150 feet upstream of Freeman Farm Road | None | +870
Alexander Creek | Confluence with South Pacolet River (William C. Bowen Lake) | None | +825 | Spartanburg County (Unincorporated Areas).
| Approximately 2,010 feet upstream of Page Road | None | +844
Alexander Creek Tributary 1 | Confluence with Alexander Creek | None | +838 | Spartanburg County (Unincorporated Areas).
| Approximately 1,620 feet upstream of Walnut Hill Church Road | None | +855
Beaverdam Creek (East) | Just upstream of Old Canaan Road | None | +619 | Spartanburg County (Unincorporated Areas).
| Approximately 300 feet upstream of Church Street | None | +677
Beaverdam Creek (East) Tributary 1 | Confluence with Beaverdam Creek (East) | None | +637 | Spartanburg County (Unincorporated Areas).
| Approximately 400 feet upstream of Church Street | None | +676
Beaverdam Creek (West) | Confluence with Middle Tyger River | None | +817 | Spartanburg County (Unincorporated Areas).
| Approximately 2 miles upstream of Highway 357 | None | +834
Big Ferguson Creek | Approximately 820 feet upstream of confluence with Ferguson Creek | *575 | +576 | Spartanburg County (Unincorporated Areas).
| Approximately 5,190 feet upstream of Wofford Road | None | +662
Browns Branch | Confluence with Pacolet River | None | +481 | Spartanburg County (Unincorporated Areas).
| Approximately 960 feet upstream of Short Drive | None | +496
Buck Creek | Confluence with Pacolet River | None | +709 | Spartanburg County (Unincorporated Areas).
| Approximately 4,950 feet upstream of Cherokee Foothills Scenic Highway | None | +808
Buffalo Creek | Approximately 100 feet upstream of confluence with Fairforest Creek | None | +574 | Spartanburg County (Unincorporated Areas).
| Approximately 1.2 miles upstream of Steward Road | None | +618
Casey Creek | Confluence with Pacolet River | None | +709 | Spartanburg County (Unincorporated Areas).
| Approximately 2,290 feet upstream of Overcreek Road | None | +824
Cedar Shoals Creek | Approximately 620 feet downstream of Horseshoe Falls Road | None | +406 | Spartanburg County (Unincorporated Areas).
| Approximately 1.5 miles upstream of Browning Road | None | +539
Cherokee Creek | Approximately 70 feet downstream of Cherokee Circle | None | +713 | Spartanburg County (Unincorporated Areas).
| Approximately 1,040 feet upstream of Cherokee Circle | None | +713
Chinquepin Creek | Approximately 100 feet upstream of Chesnee Highway | None | +719 | Spartanburg County (Unincorporated Areas).
| Approximately 920 feet upstream of Chesnee Highway | None | +726
Dildine Creek | Confluence with Enoree River | None | +560 | Spartanburg County (Unincorporated Areas).
| Approximately 4,580 feet upstream of confluence with Enoree River | None | +563
Dillard Creek | Confluence with Enoree River | None | +708 | Spartanburg County (Unincorporated Areas).
| Approximately 4,540 feet upstream of confluence with Enoree River | None | +715
Dutchman Creek | Approximately 1 mile downstream of Tucker Road | None | +481 | Spartanburg County (Unincorporated Areas).
| Approximately 2,370 feet upstream of Walnut Grove Pauline Road | None | +645
Enoree River | Approximately 4.3 miles downstream of Interstate 26 | None | +401 | Spartanburg County (Unincorporated Areas).
| Approximately 125 feet upstream of State Highway 14 | None | +748
Enoree River Tributary 1 | Confluence with Enoree River | None | +698 | Spartanburg County (Unincorporated Areas).
| Approximately 1,690 feet upstream of Sharon Church Road | None | +790
Fairforest Creek | Approximately 80 feet downstream of Glen Springs Road | None | +491 | Spartanburg County (Unincorporated Areas) City of Spartanburg.
| Approximately 100 feet downstream of Interstate 85 | None | +844
Fairforest Creek:
Tributary 1 | Confluence with Fairforest Creek | None | +497 | Spartanburg County (Unincorporated Areas).
| Approximately 1.3 miles upstream of confluence with Fairforest Creek | None | +525
Tributary 2 | Approximately 50 feet upstream of Fairforest Creek | None | +574 | Spartanburg County (Unincorporated Areas).
| Approximately 1,320 feet upstream of West Road | None | +656
Tributary 3 | Approximately 300 feet upstream of confluence with Fairforest Creek | None | +614 | Spartanburg County (Unincorporated Areas).
| Approximately 3,630 feet upstream of confluence with Fairforest Creek | None | +631
Fawn Branch | Just upstream of Old Furnace Road | None | +807 | Spartanburg County (Unincorporated Areas).
| Approximately 870 feet upstream of Old Furnace Road | None | +810
Fawn Branch:
Tributary 1 | Just upstream of Old Furnace Road | None | +807 | Spartanburg County (Unincorporated Areas).
| Approximately 2,640 feet upstream of Clark Road | None | +883
Tributary 2 | Confluence with Fawn Branch Tributary 1 | None | +826 | Spartanburg County (Unincorporated Areas).
| Approximately 440 feet upstream of State Highway 9 | None | +873
Ferguson Creek | Approximately 190 feet downstream of Old Spartanburg Highway | None | +627 | Spartanburg County (Unincorporated Areas).
| Approximately 1,990 feet upstream of Old Spartanburg Highway | None | +638
Fleming Branch | Confluence with Fairforest Creek | None | +566 | Unincorporated Areas of Spartanburg County.
| Approximately 2,200 feet upstream of confluence with Fairforest Creek | None | +576
Foster Creek | Approximately 330 feet upstream of Twin Oaks Road | None | +607 | Spartanburg County (Unincorporated Areas).
| Approximately 1.4 miles upstream of Old Canaan Road | None | +659
Foster Creek Tributary 1 | Confluence with Foster Creek | None | +636 | Spartanburg County (Unincorporated Areas).
| Approximately 4,000 feet upstream of confluence with Foster Creek | None | +748
Fourmile Branch | Just upstream of Country Club Rd | *631 | +632 | Spartanburg County (Unincorporated Areas).
| Approximately 2,810 feet upstream of Pine Street | None | +734
Halfway Branch | Approximately 600 feet upstream of confluence of Halfway Branch Tributary 1 | None | +680 | City of Spartanburg.
| Approximately 2,150 feet upstream of confluence with Halfway Branch Tributary 1 | None | +708
Halfway Branch Tributary 1 | Just downstream of Blackwood Drive | None | +686 | Spartanburg County (Unincorporated Areas) City of Spartanburg.
| Approximately 700 feet upstream of Perin Drive | None | +722
Island Creek | Confluence with Pacolet River | None | +655 | Spartanburg County (Unincorporated Areas).
| Approximately 2,000 feet upstream of Cemetery Road | None | +804
Jamison Mill Creek | Confluence with South Pacolet River | None | +878 | Spartanburg County (Unincorporated Areas).
| Approximately 1.4 miles upstream of Spivey Creek Road | None | +920
Jimmies Creek (North) | Just upstream of Freys Drive | None | +665 | Spartanburg County (Unincorporated Areas).
| Approximately 2,190 feet upstream of Tucapau Road | None | +789
Jimmies Creek (South) | Confluence with North Tyger River | None | +440 | Spartanburg County (Unincorporated Areas) Town of Woodruff.
| Approximately 1,550 feet upstream of Georgia Road | None | +696
Jimmies Creek (South) Tributary 1 | Confluence with Jimmies Creek (South) | None | +444 | Spartanburg County (Unincorporated Areas).
| Approximately 5,070 feet upstream of confluence with Jimmies Creek (South) | None | +470
Kelsey Creek | Confluence with Fairforest Creek | None | +524 | Spartanburg County (Unincorporated Areas).
| Approximately 4,900 feet upstream of confluence with Thompson Creek | None | +555
Lawsons Fork Creek | Just upstream of Meadow Farm Road | None | +802 | Spartanburg County (Unincorporated Areas).
| Approximately 2,320 feet upstream of Park Street | None | +937
Lawsons Fork Creek:
Tributary 1 | Approximately 850 feet upstream of confluence with Lawsons Fork Creek | None | +656 | City of Spartanburg.
| Approximately 3,890 feet upstream of Woodburn Road | None | +701
Tributary 3 | Approximately 900 feet upstream of Lawsons Fork Creek | *778 | +779 | Spartanburg County (Unincorporated Areas).
| Approximately 2,120 feet upstream of Honeysuckle Road | None | +828
Tributary 4 | Just upstream of River Forest Rd | None | +787 | Spartanburg County (Unincorporated Areas).
| Approximately 400 feet upstream of Lyman Road | None | +864
Lick Creek | Confluence with Enoree River | None | +567 | Spartanburg County (Unincorporated Areas).
| Approximately 425 feet upstream of Allen Bridge Road | None | +581
Little Buck Creek | Confluence with Buck Creek | None | +712 | Spartanburg County (Unincorporated Areas).
| Approximately 280 feet upstream of Cherokee Street | None | +841
Maple Creek | Just upstream of New Woodruff Road | None | +854 | Spartanburg County (Unincorporated Areas) City of Greer.
| Approximately 85 feet downstream of Acron Drive | None | +866
McElwain Creek | Approximately 3,266 feet downstream of Yard Road | None | +495 | Spartanburg County (Unincorporated Areas).
| Approximately 230 feet upstream of Yard Road | None | +499
Meadow Creek | Approximately 500 feet upstream of confluence with Lawson's Fork Creek | *802 | +803 | Spartanburg County (Unincorporated Areas).
| Approximately 1,360 feet upstream of Interstate 26 | None | +849
Meadow Creek Tributary 1 | Confluence with Meadow Creek | None | +823 | Spartanburg County (Unincorporated Areas).
| Approximately 3,380 feet upstream of Spring Valley Road | None | +837
Middle Tyger River | Just upstream of Spartex Dam | None | +733 | Spartanburg County (Unincorporated Areas) Town of Duncan, Town of Lyman.
| Approximately 250 feet upstream of Sloan Road | None | +859
Middle Tyger River Tributary 1 | Approximately 1,800 feet upstream of confluence with Middle Tyger River | *615 | +616 | Spartanburg County (Unincorporated Areas).
| Approximately 5,040 feet upstream of confluence with Middle Tyger River | None | +629
Motlow Creek | Confluence with South Pacolet River | None | +826 | Spartanburg County (Unincorporated Areas) Town of Campobello.
| Approximately 740 feet upstream of Macedonia Church Road | None | +943
North Pacolet River | Confluence with Pacolet River | None | +723 | Spartanburg County (Unincorporated Areas).
| Approximately 4,030 feet upstream of Landrum Road | None | +837
North Tyger River | Approximately 3,340 feet downstream of Highway 56 | None | +421 | Spartanburg County (Unincorporated Areas).
| Approximately 2.2 miles upstream of Interstate 26 | None | +583
North Tyger River:
Tributary 1 | Just downstream of Interstate 26 | None | +594 | Spartanburg County (Unincorporated Areas).
| Approximately 1.4 miles upstream of Stillhouse Road | None | +672
Tributary 2 | Approximately 1,780 feet upstream of confluence with North Tyger River | *665 | +666 | Spartanburg County (Unincorporated Areas).
| Approximately 260 feet upstream of U.S. Highway 29 | None | +748
Tributary 3 | Approximately 900 feet upstream of confluence with North Tyger River | None | +736 | Spartanburg County (Unincorporated Areas) Town of Lyman.
| Approximately 1.6 miles upstream of Holly Springs Road | None | +898
Obed Creek | Confluence with North Pacolet River | None | +737 | Spartanburg County (Unincorporated Areas).
| Approximately 4,100 feet upstream of Burnt Chimney Road | None | +879
Pacolet River | Approximately 2.4 miles downstream of Chapel Drive | None | +476 | Spartanburg County (Unincorporated Areas) Town of Pacolet.
| Confluence of North Pacolet River and South Pacolet River | None | +723
Pacolet River:
Tributary 1 | Confluence with Pacolet River | None | +632 | Spartanburg County (Unincorporated Areas).
| Approximately 290 feet upstream of Church Street | None | +765
Tributary 2 | Confluence with Pacolet River | None | +716 | Spartanburg County (Unincorporated Areas).
| Approximately 5,140 feet upstream of Fairfield Road | None | +875
Peters Creek | Confluence with Pacolet River | None | +630 | Spartanburg County (Unincorporated Areas).
| Approximately 210 feet downstream of Jones Road | None | +796
Ransom Creek | Approximately 1,120 feet upstream of confluence with North Tyger River | *610 | +611 | Spartanburg County (Unincorporated Areas).
| Approximately 1,050 feet upstream of Schirra Court | None | +732
Ransom Creek Tributary 1 | Confluence with Ransom Creek | None | +614 | Spartanburg County (Unincorporated Areas).
| Approximately 460 feet upstream of Interstate 26 | None | +640
Reedy Creek | Approximately 100 feet downstream of Old Canaan Road | None | +624 | Spartanburg County (Unincorporated Areas).
| Approximately 230 feet upstream of McAbee Road | None | +667
Richland Creek | Confluence with South Pacolet River | None | +785 | Spartanburg County (Unincorporated Areas).
| Approximately 1.3 miles upstream of Hickory Nut Drive | None | +832
Richland Creek East | Confluence with Pacolet River | None | +539 | Spartanburg County (Unincorporated Areas).
| Approximately 4,970 feet upstream of confluence with Pacolet River | None | +540
Richland Creek:
Tributary 1 | Confluence with Richland Creek | None | +785 | Spartanburg County (Unincorporated Areas).
| Approximately 2,740 feet upstream of River Oak Road | None | +825
Tributary 2 | Confluence with Richland Creek Tributary 1 | None | +792 | Spartanburg County (Unincorporated Areas).
| Approximately 3,860 feet upstream of confluence with Richland Creek Tributary 1 | None | +810
Tributary 3 | Confluence with Richland Creek | None | +785 | Spartanburg County (Unincorporated Areas).
| Approximately 570 feet upstream of Owens Drive | None | +855
Shoally Creek | Approximately 60 feet downstream of confluence with Shoally Creek Tributary 2 | None | +804 | Spartanburg County (Unincorporated Areas).
| Approximately 4,580 feet upstream of Old Furnace Road | None | +915
Shoally Creek:
Tributary 1 | Approximately 300 feet upstream of confluence with Shoally Creek | None | +752 | Spartanburg County (Unincorporated Areas).
| Approximately 250 feet upstream of Sandifer Road | None | +796
Tributary 2 | Just upstream of confluence with Shoally Creek | None | +804 | Spartanburg County (Unincorporated Areas).
| Approximately 1,730 feet upstream of Burnett Road | None | +875
Tributary 3 | Confluence with Shoally Creek | None | +804 | Spartanburg County (Unincorporated Areas).
| Approximately 150 feet upstream of McMillin Boulevard | None | +850
South Pacolet River Tributary 2 | Confluence with South Pacolet River Tributary 1 | None | +832 | Spartanburg County (Unincorporated Areas).
| Approximately 2,410 feet upstream of confluence with South Pacolet River Tributary 1 | None | +861
South Pacolet River | Confluence with Pacolet River | None | +723 | Spartanburg County (Unincorporated Areas) Town of Campobello.
| Confluence of Jamison Mill Creek | None | +878
South Pacolet River Tributary 1 | Confluence with South Pacolet River | None | +825 | Spartanburg County (Unincorporated Areas).
| Approximately 4,230 feet upstream of Old Mill Road | None | +844
South Tyger River | Confluence with North Tyger River | None | +518 | Spartanburg County (Unincorporated Areas). City of Greer, Town of Duncan.
| Approximately 1.9 miles upstream of Wade Hampton Boulevard | None | +771
South Tyger River Tributary 1 | Confluence with South Tyger River | None | +604 | Spartanburg County (Unincorporated Areas).
| Approximately 2,340 feet upstream of confluence with South Tyger River | None | +612
Spivey Creek | Confluence with South Pacolet River | None | +857 | Spartanburg County (Unincorporated Areas).
| Approximately 140 feet upstream of Spivey Creek Road | None | +876
Thompson Creek (North) | Confluence with Pacolet River | None | +714 | Spartanburg County (Unincorporated Areas).
| Approximately 1.1 miles upstream of Peachtree Road | None | +796
Thompson Creek (South) | Confluence with Kelsey Creek | None | +554 | Spartanburg County (Unincorporated Areas).
| Approximately 1.1 miles upstream of Johnson Lake Road | None | +648
Turkey Hen Branch | Confluence with Pacolet River | None | +565 | Spartanburg County (Unincorporated Areas).
| Approximately 630 feet upstream of Harper Fish Camp Road | None | +646
Twomile Creek | Confluence with Enoree River | None | +485 | Spartanburg County (Unincorporated Areas).
| Approximately 3,990 feet upstream of Parker Road | None | +513
Vines Creek | Confluence with Abners Creek | None | +717 | Spartanburg County (Unincorporated Areas).
| Approximately 1.2 miles upstream of Babe Wood Road | None | +776
Wards Creek | Confluence with North Tyger River | None | +554 | Spartanburg County (Unincorporated Areas).
| Approximately 3,450 feet upstream of Harrison Grove Road | None | +616
Wiley Fork Creek | Confluence with Dutchman Creek | None | +532 | Spartanburg County (Unincorporated Areas).
| Approximately 2,390 feet upstream of confluence with Dutchman Creek | None | +537
Zekial Creek | Confluence with Island Creek | None | +804 | Spartanburg County (Unincorporated Areas).
| Approximately 4,530 feet upstream of confluence with Island Creek | None | +815
* National Geodetic Vertical Datum.
# Depth in feet above ground.
+ North American Vertical Datum.
ADDRESSES
City of Greer
Maps are available for inspection at 106 South Main Street, Greer, SC 29650.
Send comments to Ed Driggers, City Administrator, 106 South Main Street, Greer, SC 29650.
City of Spartanburg
Maps are available for inspection at 145 West Broad Street, Spartanburg, SC 29304.
Send comments to Mark Scott, City Manager, P.O. Box 1749, 145 West Broad Street, Spartanburg, SC 29304.
Town of Campobello
Maps are available for inspection at 208 North Main Street, Campobello, SC 29322.
Send comments to The Honorable Ray Copeland, Mayor, City of Campobello, P.O. Box 8, 208 North Main Street, Campobello, SC 29322.
Town of Duncan
Maps are available for inspection at 153 West Main Street, Duncan, SC 29334.
Send comments to The Honorable John Hamby, Mayor, Town of Duncan, Post Office Drawer 188, 153 West Main Street, Duncan, SC 29334.
Town of Lyman
Maps are available for inspection at 81 Groce Road, Lyman, SC 29365.
Send comments to The Honorable Robert Fogel, Mayor, Town of Lyman, 81 Groce Road, Lyman, SC 29365.
Town of Pacolet
Maps are available for inspection at 180 Montgomery Avenue, Pacolet, SC 29372.
Send comments to The Honorable Elaine Harris, Mayor, Town of Pacolet, P.O. Box 700, 180 Montgomery Avenue, Pacolet, SC 29372.
Town of Woodruff
Maps are available for inspection at 231 E. Hayne Street, Woodruff, SC 29388.
Send comments to Scott Slatton, City Manager, 231 E. Hayne Street, Woodruff, SC 29388.
Spartanburg County (Unincorporated Areas)
Maps are available for inspection at 9039 Fairforest Road, Spartanburg, SC 29301.
Send comments to Glen Breed, County Administrator, 366 N. Church Street, P.O. Box 5666, Spartanburg, SC 29304.
La Crosse County, Wisconsin and Incorporated Areas
Black River | At confluence with the Black River, Mississippi River and La Crosse River | *645 | *644 | City of Onalaska, City of La Crosse, La Crosse County (Unincorporated Areas).
| Just upstream of Lock & Dam 7 | *647 | *646
Ebner Coulee | 100 feet south of Jackson St. | *660 | *658 | City of La Crosse, La Crosse County (Unincorporated Areas).
| Just east of 29th St. | *670 | *667
Ebner Coulee:
Pond 1 | Just east of 29th St | *662 | *663 | City of La Crosse.
| At Burlington Northern Railroad | *662 | *663
Pond 2 | At State Road | *657 | *656 | City of La Crosse.
| At Farnam Street | *659 | *656 |
Pond 3 | At State Road | *657 | *655 | City of La Crosse.
| At 200 feet north of Crestline Place | *658 | *655 |
Pond 4 | 500 feet south of Evergreen St | *657 | *652 | City of La Crosse.
| 150 feet north of Evergreen St | *657 | *652 |
Pond 5 | At Ward Avenue | *656 | *652 | City of La Crosse.
| At Travis Street | *657 | *653 |
Pond 6 | 600 feet south of East Fairchild Street | *656 | *654 | City of La Crosse.
| 600 feet north of West Fairchild Street | *657 | *654 |
Pond 7 | At Farnam Street | *659 | *658 | City of La Crosse.
| At Jackson Street | *660 | *658 |
Johns Coulee | At mouth at Mormon Creek | None | *725 | La Crosse County (Unincorporated Areas).
| Approximately 1 mile upstream of County Highway YY bridge | None | *827 |
La Crosse River | Approximately 600 feet upstream of Highway 53 | *645 | *644 | City of Onalaska, City of La Crosse, La Crosse County (Unincorporated Areas).
| Overbank area between Goheres St. to the north and Monitor St. to the south | *646 | *645 |
| At State Highway 16 | *656 | *655 |
La Crosse River Left Overbank | Southern extent near La Crosse St. | *645 | *644 | City of La Crosse.
| At Lang Drive | *646 | *645 |
La Crosse River Right Overbank 1 | Railroad just north of County Highway B | *648 | *649 | City of La Crosse.
| At Hawkins Road | *652 | *653 |
La Crosse River Railroad Ditch | At mouth at confluence with La Crosse River | None | *650 | City of La Crosse.
| Upstream extent at divergence at La Crosse River | None | *655 |
Mormon Creek | At mouth at Mississippi River | None | *639 | La Crosse County (Unincorporated Areas).
| At County Highway M | None | *766 |
Mississippi River | Adjacent to Marion Road N at river mile 694 | *641 | *640 | City of La Crosse, City of Onalaska, La Crosse County (Unincorporated Areas).
| Approximately 3.6 miles south of Highway 35 at river mile 711 | *650 | *649 |
Pammel Creek | At mouth at Mississippi River | *642 | *640 | City of La Crosse, La Crosse County (Unincorporated Areas).
| 150 feet upstream of Hagen Road | *691 | *683 |
Pammel Creek East Bank | At Juniper Street | *645 | *644 | City of La Crosse, La Crosse County (Unincorporated Areas).
| At Leonard Street | *650 | *644 |
| At Meadow Lane Place | *651 | *647 |
| Adjacent to Easter Road | *653 | *647 |
| At Park Lane Drive | *654 | *653 |
| At Midway between Park Lane Drive & Ward Avenue | *658 | *653 |
Sand Lake Coulee | 200 feet downstream of County Highway OT | None | *650 | Village of Holmen, City of Onalaska, La Crosse County (Unincorporated Areas).
| At Private driveway ¼ mile north of Abnet Rd | None | *770 |
Sand Lake Coulee Right Overbank—Midway | At mouth at confluence with Sand Lake Coulee | None | *652 | Village of Holmen, La Crosse County (Unincorporated Areas).
| Approximately 1200 feet downstream of State Highway 35 | None | *663 |
Sand Lake Coulee | At County Highway SN | None | *701 | Village of Holmen, City of Onalaska, La Crosse County (Unincorporated Areas).
Right Overbank—Golf Course | Golf Course boundary 0.5 mi. downstream of Moos Rd | None | *721 |
Smith Valley Creek | At mouth at La Crosse River | None | *658 | City of Onalaska, City of La Crosse, La Crosse County (Unincorporated Areas).
| End of Smith Valley Road | None | *814
State Road Coulee | 150 feet upstream of Hagen Rd | *691 | *683 | La Crosse County (Unincorporated Areas).
| 600 feet upstream of Hagen Rd | *692 | *687
*National Geodetic Vertical Datum.
#Depth in feet above ground.
+North American Vertical Datum.
ADDRESSES
La Crosse County (Unincorporated Areas)
Maps are available for inspection at: La Crosse County Zoning, Planning and Land Information Office, 400 4th, St. N., La Crosse, WI 54601.
Send comments to: Jeff Bluske, Director of Zoning, Planning and Land Information, 400 4th St. N., La Crosse, WI 54601.
Village of Holmen
Maps are available for inspection at: Village Hall, 421 S. Main St., Holmen, WI 54636-0158.
Send comments to: Catherine J. Schmit, Village Administrator, P.O. Box 158, Holmen, WI 54636-0158.
City of La Crosse
Maps are available for inspection at: City Hall, 400 La Crosse St., La Crosse, WI 54601.
Send comments to: Randy Turtenwald, City Engineer, 400 La Crosse St., La Crosse, WI 54601.
City of Onalaska
Maps are available for inspection at: City Hall, 415 Main St., Onalaska, WI 54650.
Send comments to: Jason Gilman, Planning Director, 415 Main St., Onalaska, WI 54650.
Milwaukee County, Wisconsin, and Incorporated Areas
Caledonia Branch | Confluence with Crayfish Creek | None | *666 | City of Oak Creek.
| Downstream side of County Line Road | None | *672 |
Caledonia Branch:
Tributary CB1 | Confluence with Caledonia Branch | None | *667 | City of Oak Creek.
| Approximately 0.6 miles upstream of Elm Road | None | *687 |
Tributary CB2 | Confluence with Caledonia Branch | None | *670 | City of Oak Creek.
| Upstream side of 10th Avenue | None | *672 |
Tributary CB3 | Upstream side of County Line Road | None | *676 | City of Oak Creek.
| Approximately 160 feet upstream of State Highway 32 | None | *688 |
Crayfish Creek | Upstream side of County Line Road | None | *666 | City of Oak Creek.
| Downstream side of Oakwood Road | None | *668 |
Crayfish Creek:
Tributary C1 | Confluence with West Branch Crayfish Creek | None | *668 | City of Oak Creek.
| Approximately 800 feet upstream of Shepard Avenue | None | *688 |
Tributary C2 | Confluence with West Branch Crayfish Creek | None | *670 | City of Oak Creek.
| Approximately 1500 feet upstream of Shepard Avenue | None | *701 |
Tributary C3 | Confluence with Crayfish Creek | None | *668 | City of Oak Creek.
| Approximately 0.9 miles from Oakwood Road | None | *677 |
Tributary C3A | Confluence with Crayfish Creek Tributary C3 | None | *669 | City of Oak Creek.
| Approximately 0.5 miles upstream of confluence with Crayfish Creek Tributary C3 | None | *672 |
Lake Michigan:
Tributary L1 | Approximately 380 feet upstream of mouth to Lake Michigan | None | *643 | City of Oak Creek.
| Approximately 0.4 miles upstream of 5th Avenue | None | *677 |
Tributary L5 | Approximately 510 feet upstream of mouth to Lake Michigan | None | *654 | City of Oak Creek.
| Approximately 0.4 miles upstream of mouth to Lake Michigan | None | *691 |
Legend Creek | Confluence with the Root River | None | *695 | City of Franklin.
| Upstream side of U.S. Highway 45 | None | *800 |
Lincoln Creek | Confluence with the Milwaukee River | *623 | *624 | City of Glendale.
| Upstream side of Teutonia Avenue | *631 | *628 | City of Milwaukee.
| Upstream of Mill Road | *691 | *687 |
| Upstream of Good Hope Road | *696 | *692 |
Menomonee River | 240 feet upstream of Canal Street | *588 | *589 | City of Milwaukee.
| Upstream side of South 35th Street | *601 | *598 | City of Wauwatosa.
| Upstream side of Chicago & Northwestern Railroad | *604 | *608 |
| Upstream side of U.S. Highway 41 | *626 | *624 |
| Upstream side of Harwood Avenue Pedestrian Bridge | *656 | *658 |
Milwaukee River | Upstream side of Cherry Street | *585 | *584 | City of Milwaukee.
| Downstream side of North Avenue | *600 | *597 | Village of Brown Deer.
| Upstream side of Capitol Drive | *607 | *605 | Village of River Hills.
| Upstream side of Good Hope Road | *639 | *640 | Village of Shorewood.
Mitchell Field Drainage Ditch | Confluence with Oak Creek | *661 | *660 | City of Milwaukee.
| Approximately 0.5 miles upstream of Howell Avenue | None | *711 | City of Oak Creek.
Mitchell Field Drainage Ditch:
Tributary M1 | Confluence with Mitchell Field Drainage Ditch | None | *672 | City of Oak Creek.
| Approximately 0.5 miles upstream of Howell Avenue | None | *713 |
Tributary M4 | Confluence with Mitchell Field Drainage Ditch | None | *666 | City of Oak Creek.
| Approximately 0.4 miles upstream of confluence with Mitchell Field Drainage Ditch | None | *683 |
North Branch Oak Creek | Confluence with Oak Creek | *678 | *682 | City of Milwaukee.
| Downstream side of Marquette Avenue | *711 | *713 | City of Oak Creek.
| Approximately 630 feet upstream of Interstate 94 | None | *742 |
North Branch Oak Creek:
Tributary N2 | Confluence with North Branch Oak Creek | None | *710 | City of Milwaukee.
| Approximately 125 feet upstream of 16th Street | None | *743 | City of Oak Creek.
Tributary N4 | Confluence with North Branch Oak Creek | None | *716 | City of Oak Creek.
| Downstream side of Interstate 94 | None | *728 |
Tributary N5 | Confluence with North Branch Oak Creek | None | *710 | City of Oak Creek.
| Approximately 0.9 miles upstream of Interstate 94 | None | *757
Tributary N7 | Confluence with North Branch Oak Creek | None | *704 | City of Oak Creek.
| Approximately 0.4 miles upstream of 20th Street—Drexel Avenue | None | *721
Tributary N7A | Confluence with North Branch Oak Creek Tributary N7 | None | *713 | City of Oak Creek.
| Approximately 590 feet upstream of 20th Street | None | *735
Oak Creek | Upstream side of 2nd Oak Creek Parkway Crossing | *602 | *603 | City of Franklin. City of Oak Creek.
| Upstream side of Southland Drive | *733 | *735
| Approximately 1360 feet upstream of Puetz Road | None | *753
Oak Creek:
Tributary O16 | Upstream side of Pennsylvania Avenue | None | *666 | City of Oak Creek.
| Approximately 0.5 miles upstream of Forest Lane | None | *681
Tributary O17 | Upstream side of Pennsylvania Avenue | None | *663 | City of Oak Creek.
| Approximately 0.9 miles upstream of Pennsylvania Avenue | None | *676
Tributary O19 | Confluence with Oak Creek Tributary | None | *664 | City of Oak Creek.
| Approximately 0.6 miles upstream of confluence with Oak Creek Tributary O19A | None | *684
Tributary O19A | Confluence with Oak Creek | None | *663 | City of Oak Creek.
| Approximately 1500 feet upstream of Puetz Road | None | *673
Tributary O20 | Confluence with Oak Creek | None | *661 | City of Oak Creek.
| Approximately 0.5 miles upstream of confluence with Oak Creek | None | *674
Tributary O8 | Confluence with Oak Creek | None | *674 | City of Oak Creek.
Root River | Downstream side of State Highway 38 | None | *689
| 500 feet downstream of Nicholson Road | *668 | *666 | City of Oak Creek.
| Upstream side of Interstate 94 | *677 | *676
Root River:
Tributary R2 | Approximately 1.2 miles upstream of confluence with the Root River | None | *672 | City of Oak Creek.
| Approximately 0.4 miles upstream of Oakwood Avenue | None | *691
Tributary R3 | Confluence with Root River Tributary R2 | None | *691 | City of Oak Creek.
| Approximately 185 feet upstream of 13th Street | None | *698
Tributary R5 | Confluence with the Root River | None | *668 | City of Oak Creek.
| Downstream side of Elms Road | None | *696
South Branch | At Waukesha County Boundary | None | *723 | City of Wauwatosa.
Underwood Creek | Downstream side of Bradley Road | None | *729 | City of West Allis.
Southbranch Creek | Upstream side of Green Bay Court | *652 | *651 | City of Milwaukee.
| Downstream side of Bradley Road | *685 | *683 | Village of Brown Deer.
Southland Creek | Confluence with North Branch Oak Creek | None | *694 | City of Oak Creek.
| Approximately 125 feet upstream of 27th Street | None | *736
Underwood Creek | Confluence with the Menomonee River | *679 | *678 | City of Wauwatosa
| 1120 feet upstream of 115th Street | *719 | *718
Unnamed Tributary | Confluence with Oak Creek | None | *737 | City of Franklin
No. 1 to Oak Creek | Approximately 60 feet upstream of Puetz Road | None | *755
Unnamed Tributary | Confluence with Southland Creek | None | *702 | City of Oak Creek.
No. 1 to Southland Creek | Approximately 60 feet upstream of Puetz Road | None | *725
* National Geodetic Vertical Datum.
# Depth in feet above ground.
+ North American Vertical Datum.
ADDRESSES
City of Franklin
Maps are available for inspection at 9229 W Loomis Road, Franklin, WI.
Send comments to The Honorable Thomas Taylor, Mayor, 9229 W Loomis Road, Franklin, WI 53132-9630.
City of Glendale
Maps are available for inspection at 5909 N Milwaukee River Parkway, Glendale, WI.
Send comments to The Honorable Jerome Tepper, Mayor, 5909 N Milwaukee River Parkway, Glendale, WI 53209-3815.
City of Milwaukee
Maps are available for inspection at 200 E Wells Street, Milwaukee, WI.
Send comments to The Honorable Tom Barrett, Mayor, 200 E Wells Street, Room 205, Milwaukee, WI 53202-3515.
City of Oak Creek
Maps are available for inspection at 8640 S Howell Avenue, Oak Creek, WI.
Send comments to The Honorable Richard Bolender, Mayor, PO Box 27, Oak Creek, WI 53154-2918.
City of South Milwaukee
Maps are available for inspection at 2424 15th Avenue, South Milwaukee, WI.
Send comments to The Honorable Thomas Zepecki, Mayor, 2424 15th Avenue, South Milwaukee, WI 53172-2410.
City of Wauwatosa
Maps are available for inspection at 7725 W North Avenue, Wauwatosa, WI.
Send comments to The Honorable Theresa Estness, Mayor, 7725 W North Avenue, Wauwatosa, WI 53213-1720.
City of West Allis
Maps are available for inspection at 7525 W Greenfield Avenue, West Allis, WI.
Send comments to The Honorable Jeannette Bell, Mayor, 7525 W Greenfield Avenue, West Allis, WI 53214-4648.
Village of Brown Deer
Maps are available for inspection at 4800 W Green Brook Drive, Brown Deer, WI.
Send comments to Ms. Margaret Jayberg, President, 4800 W Green Brook Drive, Brown Deer, WI 53223-2406.
Village of River Hills
Maps are available for inspection at 7650 N Pheasant Lane, River Hills, WI.
Send comments to Mr. Robert C. Brunner, President, 7650 N Pheasant Lane, River Hills, WI 53217-3012.
Village of Shorewood
Maps are available for inspection at 3930 N Murray Avenue, Shorewood, WI.
Send comments to Mr. Guy Johnson, President, 3930 N Murray Avenue, Shorewood, WI 53211-2303.

Catalog of Federal Domestic Assistance No. 83.100, “Flood Insurance”.

Dated February 7, 2007.
David I. Maurstad,
Director, Mitigation Division, Federal Emergency Management Agency, Department of Homeland Security.

[FR Doc. E7-2638 Filed 2-14-07; 845 am]

BILLING CODE 9110-12-P